OFFICE OF SCIENCE AND TECHNOLOGY POLICY

Nanoscale Science, Engineering, and Technology Subcommittee; Committee on Technology, National Science and Technology Council; Notice of Public Meeting

AGENCY: Executive Office of the President, Office of Science and Technology Policy.

ACTION: Notice of Public Meeting.

SUMMARY: The National Nanotechnology Coordination Office (NNCO), on behalf of the Nanoscale Science, Engineering, and Technology (NSET) Subcommittee of the Committee on Technology, National Science and Technology Council (NSTC), will hold a workshop on June 11-12, 2013, to obtain input from stakeholders regarding the goals and objectives of an updated U.S. National Nanotechnology Initiative (NNI) Strategic Plan that is currently under development and scheduled for completion by December 2013. Representatives of the U.S. research community, industry, non-governmental organizations, and interested members of the general public are invited to offer suggestions to the U.S. Government interagency group that is drafting the new plan, which is an update of the 2011 NNI Strategic Plan (see http://nano.gov/sites/default/files/pub_resource/2011_strategic_plan.pdf). In particular, participants will be invited to suggest additions to and provide feedback on wording and emphasis areas in the NNI goals, the objectives that support these goals, and the Nanotechnology Signature Initiatives. Comments will also be solicited on the relationship between these topics and the revised Program Component Areas, which will be presented at the event.

DATES: Tuesday, June 11, 2013 from 8:00 a.m. until 5:00 p.m. and on Wednesday, June 12, 2013 from 8:00 a.m. until 1:00 p.m.

ADDRESSES: The workshop will be held at USDA Conference and Training Center, Patriots Plaza III, 355 E Street SW., Washington, DC 20024.

Registration: Due to space limitations, pre-registration for the workshop is required. Registration will open on May 1, 2013 and remain open until June 3, 2013 or until capacity is reached. Individuals planning to attend the workshop should register online at http://www.nano.gov/stakeholderworkshop. Written notices of participation by email should be sent to stakeholderworkshop@nnco.nano.gov or mailed to Stacey Standridge, 4201 Wilson Boulevard, Stafford II, Suite 405, Arlington, VA 22230. Please provide your full name, title, affiliation and email or mailing address when registering. Registration is on a first-come, first-served basis until capacity is reached. Those interested in presenting 3-5 minutes of public comments at the meeting should also register at http://www.nano.gov/stakeholderworkshop. Written or electronic comments should be submitted by email to stakeholderworkshop@nnco.nano.gov until May 13, 2013.

Meeting Accomodations: Individuals requiring special accommodation to access this public meeting should contact Stacey Standridge (telephone 703-292-8103) or Cheryl David-Fordyce (703-292-2424) at least ten business days prior to the meeting so that appropriate arrangements can be made.

FOR FURTHER INFORMATION CONTACT: For information regarding this Notice, please contact Stacey Standridge at National Nanotechnology Coordination Office, by telephone (703-292-8103) or email (sstandridge@nnco.nano.gov). Additional information about the meeting, including the agenda, is posted at http://www.nano.gov/stakeholderworkshop.

Ted Wackler,
Deputy Chief of Staff and Assistant Director.

[FR Doc. 2013-09729 Filed 4-23-13; 8:45 am]

BILLING CODE 3270-F3-P